DEPARTMENT OF THE INTERIOR

National Park Service

Information Collection; Request for Extension

AGENCY: National Park Service.

ACTION: Notice of request for extension of a currently approved information collection.

SUMMARY: In compliance with the Paperwork Reduction Act of 1995, the National Park Service (NPS) is announcing its intention to request an extension of a currently approved collection of information (OMB# 1024-0231) for 36 CFR part 51, § 51.47 regarding the appeal of a preferred offeror determination, §§ 51.54 and 51.55 regarding NPS approval of the construction of capital improvements by concessioners, and section 51.98 concerning recordkeeping requirements with which concessioners must comply.

The information is being collected to meet the requirements of section 403(7) and (8) of the NPS Concessions Management Improvement Act of 1998 (the Act), concerning the granting of a preferential right to renew a concession contract, section 405 of the Act regarding the construction of capital improvements by concessioners, and section 414 of the Act regarding recodkeeping requirements of concessioners. The information will be used by the agency in considering appeals concerning preferred offeror determinations, agency review and approval of construction projects and determinations with regard to the leasehold surrender interest value of such projects, and when necessary, agency review of a concessioner's books and records related to its activities under a concession contract.

DATES: Comments on this notice must be received no later than February 3, 2004.

Additional Information or Comments: Contact Cynthia Orlando, Concession Program Manager, National Park Service, 1849 C Street, NW., (2410), Washington, DC 20240, or 202/513-7144.

SUPPLEMENTARY INFORMATION: Title: Concession Contract—36 CFR 51.

OMB Control Number: 1024-0231.

Expiration Date of Approval: November 30, 2003.

Type of Request: Extension of a currently approved information collection.

Abstract: The Office of Management and Budget (OMB) regulations as 5 CFR 1320, which implement provisions of the Paperwork Reduction Act of 1995 (Pub. L. 104-13), require that interested members of the public and affected agencies have an opportunity to comment on information collection and recordkeeping activities (see 5 CFR 1320.8(d)). This notice identifies information collection activities that NPS will submit to OMB for approval. The OMB control number for this collection of information is 1024-0231, and is identified in 36 CFR Section 51.104.

NPS has identified burden estimates based on its experience with concession contracts and on information previously supplied by concessioners or offerors in response to concession prospectuses. NPS will request a 3-year term of approval for this information collection activity.

Bureau Form Number: None.

Frequency of Collection: Once.

Description of Respondents: NPS concessioners, and, in the case of appeals of preferred offeror determinations, offerors in response to concession prospectuses.

Total Annual Responses: 758.

Total Annual Burden Hours: 3,276.

Send comments on (1) the need for the collection of information for the performance of the functions of the agency; (2) the accuracy of the agency's burden estimates; (3) ways to enhance the quality, utility and clarity of the information collection; and (4) ways to minimize the information collection burden on respondents, such as use of automated means of collection of the information. Please refer to OMB control number 1024-0231 in all correspondence. All responses to this notice will be summarized and included in the request for OMB approval. All comments will also become a matter of public record. Copies of the information collection can be obtained from Cynthia L. Orlando, Concession Program Manager, National Park Service, Department of the Interior, 1849 C Street, NW., (2410), Washington, DC 20240.

Dated: October 30, 2003.
Leonard E. Stowe,
Acting NPS Information Collection Clearance Officer, Washington Administrative Program Center.

[FR Doc. 03-29987 Filed 12-4-03; 8:45 am]

BILLING CODE 4312-53-M